DEPARTMENT OF HOMELAND SECURITY

Coast Guard

[CGD08-05-026]

Implementation of Sector Ohio Valley

AGENCY: Coast Guard, DHS.

ACTION: Notice of organizational change.

SUMMARY: The Coast Guard announces the stand-up of Sector Ohio Valley. Sector Ohio Valley is an internal reorganization to combine Group Ohio Valley, Marine Safety Office Paducah, Marine Safety Office Louisville, Marine Safety Office Huntington, and Marine Safety Office Pittsburgh into one command. The Coast Guard has established a continuity of operations whereby all previous practices and procedures will remain in effect until superseded by an authorized Coast Guard official and/or document.

DATES: This notice is effective June 2, 2005.

ADDRESSES: Documents indicated in this preamble as being available in the docket are part of docket CGD08-05-026 and are available for inspection or copying at Commander (rpl), Eighth Coast Guard District, 500 Poydras Street, New Orleans, Louisiana 70130-3310 between 7:30 a.m. and 4:30 p.m., Monday through Friday, except Federal holidays.

FOR FURTHER INFORMATION CONTACT: Lieutenant Michael Roschel, Eighth District Planning Office at 504-589-6293.

SUPPLEMENTARY INFORMATION:

Discussion of Notice

Sector Ohio Valley is located at 600 Martin Luther King Junior Place Blvd., Room 409-D, Louisville, KY 40202-2251 and contains a single Command Center. Sector Ohio Valley is composed of a Response Department, Prevention Department, and Logistics Department. All existing missions and functions performed by Group Ohio Valley, Marine Safety Office Paducah, Marine Safety Office Louisville, Marine Safety Office Huntington, and Marine Safety Office Pittsburgh will be performed by Sector Ohio Valley. Effective June 2, 2005, Group Ohio Valley, Marine Safety Office Paducah, Marine Safety Office Louisville, Marine Safety Office Huntington, and Marine Safety Office Pittsburgh no longer exist as organizational entities. However, Marine Safety Office Paducah, Marine Safety Office Huntington, and Marine Safety Office Pittsburgh are renamed Marine Safety Units and report directly to the Sector Ohio Valley Commander. Sector Ohio Valley consists of four sub-zones and Sector Ohio Valley is responsible for all Coast Guard missions in these zones. The sub-zones are: Ohio Valley Sub-Zone, MSU Paducah Sub-Zone, MSU Huntington Sub-Zone, and MSU Pittsburgh Sub-Zone.

Ohio Valley Sub-Zone is comprised of: that part of Indiana south of 41° N. latitude; that part of Ohio south of 41° N. latitude and west of Ashland, Knox, Licking, Fairfield, Pickaway, Ross, Pike, and Scioto Counties; that part of Illinois north of Pope and Hardin Counties, east of Williamson, Franklin, Jefferson, Marion, Fayette, Effingham, Shelby, Moultrie, Piatt, McLean, and Livingston Counties, and south of 41° N. latitude; and in Kentucky: Todd, Logan, Simpson, Allen, Warren, Barren, Metcalfe, Muhlenberg, Butler, Edmonson, Hart, Green, Taylor, Adair, Casey, Lincoln, Webster, Hopkins, McLean, Ohio, Grayson, Henderson, Daviess, Hancock, Breckinridge, Meade, Hardin, Larue, Nelson, Washington, Marion, Anderson, Mercer, Boyle, Woodford, Jessamine, Garrard, Fayette, Clark, Madison, Estill, Powell, Lee, Bullitt, Spencer, Jefferson, Shelby, Franklin, Scott, Oldham, Henry, Owen, Trimble, Carroll, Montgomery, Bath, Rowan, Bourbon, Nicholas, Fleming, Harrison, Robertson, Mason, Grant, Pendleton, Bracken, Gallatin, Boone, Kenton, Campbell, Monroe, Cumberland, Russell, Clinton, Wayne, Pulaski, McCreary, Rock Castle, Whitley, Jackson, Laurel, Knox, Clay, Bell, Leslie and Harlan Counties, that part of Lewis County south and west of a line drawn from the point of intersection of Scioto and Adams Counties (in Ohio) and the Ohio River to the point of intersection of Carter, Greenup, and Lewis Counties (in Kentucky), and that part of Union County north of a line drawn from the point of intersection of Gallatin and Hardin Counties (in Illinois) and the Ohio River to the point of intersection of Union, Webster, and Henderson Counties (in Kentucky).

MSU Paducah Sub-Zone is comprised of: In Missouri: Stoddard, Mississippi and Scott Counties, and those parts of Cape Girardeau and Bollinger Counties south of a line drawn eastward from the southeast corner of Madison County to the point of intersection of the upper Mississippi River (Mile 55.3) and Union and Alexander Counties, and those parts of Dunklin and New Madrid Counties north of a line drawn eastward from the southeast corner of Butler County to the westernmost point of intersection of the Missouri, Kentucky and Tennessee border at the lower Mississippi River (Mile 882.7), and all that part of New Madrid County, and all waters of the Mississippi River which border any part of New Madrid County, lying east of 89°30′ W. longitude (including the area known as Winchester Towhead). In Illinois: Johnson, Pope, Hardin, Alexander, Pulaski, and Massac Counties. In Kentucky: Fulton, Hickman, Carlisle, Ballard, McCracken, Graves, Calloway, Marshall, Livingston, Lyon, Trigg, Crittenden, Caldwell, and Christian Counties, and that part of Union County south of a line drawn from the point of intersection of Gallatin and Hardin Counties (in Illinois) and the Ohio River to the point of intersection of Union, Webster and Henderson Counties; all of Tennessee except for Dyer, Crockett, Lauderdale, Tipton, Haywood, Shelby, Fayette, Hardeman and Lake Counties; that part of Alabama north of 34°N. latitude, and in Mississippi: Alcorn, Prentiss, and Tishomingo Counties except for that portion of the Tennessee-Tombigbee Waterway south of the Bay Springs Lock and Dam.

MSU Huntington Sub-Zone is comprised of: All of West Virginia except for Preston, Monongalia, Marion, Marshall, Ohio, Brooke, and Hancock Counties; in Ohio: Wayne, Holmes, Knox, Cushocton, Licking, Muskingum, Guernsey, Noble, Fairfield, Perry, Morgan, Pickaway, Ross, Hocking, Vinton, Athens, Washington, Pike, Jackson, Gallia, Meigs, Scioto, and Lawrence Counties, those parts of Ashland and Medina Counties south of 41°N. latitude, and that part of Monroe County south and west of a line drawn from the point of intersection of Marshall and Wetzel Counties and the Ohio River to the point of intersection of Belmont, Noble, and Monroe Counties; and in Kentucky: Letcher, Perry, Owsley, Breathitt, Knott, Pike, Floyd, Magoffin, Wolfe, Menifee, Morgan, Johnson, Martin, Lawrence, Elliott, Boyd, Carter, and Greenup Counties, and that part of Lewis County north and east of a line drawn from the point of intersection of Scioto and Adams Counties and the Ohio River to the point of intersection of Carter, Greenup, and Lewis Counties.

MSU Pittsburgh Sub-Zone is comprised of: that part of Pennsylvania south of 41°N. latitude and west of 79°W. longitude; in West Virginia: Preston, Monongalia, Marion, Marshall, Ohio, Brooke, and Hancock Counties; and in Ohio: Stark, Columbiana, Tuscarawas, Carroll, Harrison, Jefferson, and Belmont Counties, those parts of Summit, Portage, and Mahoning Counties south of 41°N. latitude, and that part of Monroe County north and east of a line drawn from the point of intersection of Marshall and Wetzel Counties and the Ohio River to the point of intersection of Belmont, Nobile, and Monroe Counties.

Sector Ohio Valley's sub-zones will be modified in the future upon the stand-up of adjoining sectors. Notice will be published in the Federal Register.

The Sector Ohio Valley Commander is vested with all the rights, responsibilities, duties, and authority of a Group Commander and Commanding Officer Marine Safety Office, as provided for in Coast Guard regulations, with the exception of specific authorities that shall be retained by MSU Pittsburgh. Sector Ohio Valley Commander is the successor in command to the Commanding Officers of Group Ohio Valley, Marine Safety Office Paducah, Marine Safety Office Louisville, Marine Safety Office Huntington, and Marine Safety Office Pittsburgh. The Sector Ohio Valley Commander is designated for the entire Sector as: (a) Federal On Scene Coordinator (FOSC), consistent with the National Contingency Plan; and (b) Search and Rescue Mission Coordinator (SMC). Also, the Sector Ohio Valley Commander is designated for the entire Sector except for the MSU Pittsburgh Sub-Zone as: (a) Captain of the Port (COTP); (b) Federal Maritime Security Coordinator (FMSC); and (d) Officer in Charge of Marine Inspection (OCMI). The Deputy Sector Commander is designated alternate COTP, FMSC, FOSC, SMC and Acting OCMI.

The Commanding Officer, Marine Safety Unit Pittsburgh is designated for the entire MSU Pittsburgh Sub-Zone as: (a) Captain of the Port (COTP); (b) Federal Maritime Security Coordinator (FMSC); (c) Federal On Scene Coordinator (FOSC) consistent with the National Contingency Plan; and (d) Officer in Charge of Marine Inspection (OCMI). The Executive Officer, Marine Safety Unit Pittsburgh is designated alternate COTP, FMSC, FOSC, and Acting OCMI.

A continuity of operations order has been issued ensuring that all previous Group Ohio Valley, Marine Safety Office Paducah, Marine Safety Office Louisville, Marine Safety Office Huntington, and Marine Safety Office Pittsburgh practices and procedures will remain in effect until superseded by Commander, Sector Ohio Valley or in MSU Pittsburgh Sub-Zone until superseded by Commanding Officer, Marine Safety Unit Pittsburgh. This continuity of operations order addresses existing COTP regulations, orders, directives and policies.

The following information is a list of updated command titles, addresses and points of contact to facilitate requests from the public and assist with entry into security or safety zones:

Name: Sector Ohio Valley.

Address: Commander, U.S. Coast Guard Sector Ohio Valley, 600 Martin Luther King Junior Place Blvd., Room 409-D, Louisville, KY 40202-2251.

Contact: General Number, (502) 582-5194, Sector Commander: Commander John Bingaman; Deputy Sector Commander: Lieutenant Commander Gregory Howard.

Chief, Prevention Department: (502) 582-5194, Chief, Response Department: (502) 582-5194, Chief, Logistics Department: (502) 582-5194.

MSU Huntington General Number, (304) 529-5524.

MSU Paducah General Number, (270) 442-1621.

MSU Pittsburgh General Number, (412) 644-5808.

Dated: May 26, 2005.
R. F. Duncan,
Rear Admiral, U.S. Coast Guard, Commander, Eighth Coast Guard District.

[FR Doc. 05-14633 Filed 7-25-05; 8:45 am]

BILLING CODE 4910-15-P